FEDERAL COMMUNICATIONS COMMISSION

[IB Docket No. 16-185; DA 19-52]

Seventh Meeting of the World Radiocommunication Conference Advisory Committee

AGENCY: Federal Communications Commission.

ACTION: Notice.

SUMMARY: In accordance with the Federal Advisory Committee Act, this notice advises interested persons that the sixth meeting of the World Radiocommunication Conference Advisory Committee (WAC) will be held on March 11, 2019, at the Federal Communications Commission (FCC). The Advisory Committee will consider any preliminary views or draft proposals introduced by the Advisory Committee's Informal Working Groups.

DATES: March 11, 2019; 11:00 a.m.

ADDRESSES: Federal Communications Commission, 445 12th Street SW, Room TW-C305, Washington DC 20554.

FOR FURTHER INFORMATION CONTACT: Michael Mullinix, Designated Federal Official, World Radiocommunication Conference Advisory Committee, FCC International Bureau, Global Strategy and Negotiation Division, at (202) 418-0491.

SUPPLEMENTARY INFORMATION: The FCC established the Advisory Committee to provide advice, technical support and recommendations relating to the preparation of United States proposals and positions for the 2019 World Radiocommunication Conference (WRC-19).

In accordance with the Federal Advisory Committee Act, Public Law 92-463, as amended, this notice advises interested persons of the fourth meeting of the Advisory Committee. Additional information regarding the Advisory Committee is available on the Advisory Committee's website, www.fcc.gov/wrc-19. The meeting is open to the public. The meeting will be broadcast live with open captioning over the internet from the FCC Live web page at www.fcc.gov/live. Comments may be presented at the Advisory Committee meeting or in advance of the meeting by email to: WRC-19@fcc.gov.

Open captioning will be provided for this event. Other reasonable accommodations for people with disabilities are available upon request. Requests for such accommodations should be submitted via email to fcc504@fcc.gov or by calling the Consumer and Governmental Affairs Bureau at (202) 418-0530 (voice), (202) 418-0432 (TTY). Such requests should include a detailed description of the accommodation needed. In addition, please include a way for the FCC to contact the requester if more information is needed to fill the request. Please allow at least five days' advance notice; last minute requests will be accepted, but may not be possible to accommodate.

The proposed agenda for the fourth meeting is as follows:

Agenda

Seventh Meeting of the World Radiocommunication Conference Advisory Committee

Federal Communications Commission: 445 12th Street SW, Room TW-C305, Washington, DC 20554, March 11, 2019; 11:00 a.m.

1. Opening Remarks

2. Approval of Agenda

3. Approval of the Minutes of the Sixth Meeting

4. NTIA Draft Preliminary Views and Proposals

5. IWG Reports and Documents Relating to Preliminary Views and Draft Proposals

6. Other Business

Nese Guendelsberger,
Deputy Chief, International Bureau, Federal Communications Commission.

[FR Doc. 2019-02755 Filed 2-19-19; 8:45 am]

BILLING CODE 6712-01-P